DEPARTMENT OF DEFENSE

Office of the Secretary

Revised Non-Foreign Overseas Per Diem Rates

AGENCY: Defense Travel Management Office, DoD.

ACTION: Notice of Revised Non-Foreign Overseas Per Diem Rates.

SUMMARY: The Defense Travel Management Office is publishing Civilian Personnel Per Diem Bulletin Number 296. This bulletin lists revisions in the per diem rates prescribed for U.S. Government employees for official travel in Alaska, Hawaii, Puerto Rico, the Northern Mariana Islands and Possessions of the United States when applicable. AEA changes announced in Bulletin Number 194 remain in effect. Bulletin Number 296 is being published in the Federal Register to assure that travelers are paid per diem at the most current rates.

DATES: Effective Date: June 1, 2015.

FOR FURTHER INFORMATION CONTACT: Ms. Sonia Malik, 571-372-1276.

SUPPLEMENTARY INFORMATION: This document gives notice of revisions in per diem rates prescribed by the Defense Travel Management Office for non-foreign areas outside the contiguous United States. It supersedes Civilian Personnel Per Diem Bulletin Number 295. Per Diem Bulletins published periodically in the Federal Register now constitute the only notification of revisions in per diem rates to agencies and establishments outside the Department of Defense. For more information or questions about per diem rates, please contact your local travel office. Civilian Bulletin 296 includes updated rates for American Samoa, Hawaii, Midway Islands, and U.S. Virgin Islands.

Dated: May 22, 2015.
Aaron Siegel,
Alternate OSD Federal Register Liaison Officer, Department of Defense.

Maximum Per Diem Rates for Official Travel in Alaska, Hawaii, the Commonwealths of Puerto Rico and the Northern Islands and Possessions of the United States by Federal Government Civilian Employees
Locality | Maximum lodging amount (A) | + | Meals and incidentals rate (B) | = | Maximum per diem rate (C) | Effective date
ALASKA:
[OTHER]
01/01-12/31 | 110 |  | 99 |  | 209 | 03/01/2015
ADAK
11/01-03/31 | 150 |  | 70 |  | 220 | 03/01/2015
04/01-10/31 | 192 |  | 74 |  | 266 | 03/01/2015
ANCHORAGE [INCL NAV RES]
05/16-09/30 | 190 |  | 102 |  | 292 | 12/01/2013
10/01-05/15 | 99 |  | 93 |  | 192 | 12/01/2013
BARROW
01/01-12/31 | 177 |  | 78 |  | 255 | 03/01/2015
BARTER ISLAND LRRS
01/01-12/31 | 110 |  | 99 |  | 209 | 04/01/2015
BETHEL
01/01-12/31 | 179 |  | 94 |  | 273 | 03/01/2015
BETTLES
01/01-12/31 | 175 |  | 79 |  | 254 | 03/01/2015
CAPE LISBURNE LRRS
01/01-12/31 | 110 |  | 99 |  | 209 | 03/01/2015
CAPE NEWENHAM LRRS
01/01-12/31 | 110 |  | 99 |  | 209 | 03/01/2015
CAPE ROMANZOF LRRS
01/01-12/31 | 110 |  | 99 |  | 209 | 03/01/2015
CLEAR AB
01/01-12/31 | 90 |  | 82 |  | 172 | 10/01/2006
COLD BAY LRRS
01/01-12/31 | 110 |  | 99 |  | 209 | 03/01/2015
COLDFOOT
01/01-12/31 | 165 |  | 70 |  | 235 | 10/01/2006
COPPER CENTER
05/15-09/15 | 130 |  | 79 |  | 209 | 03/01/2015
09/16-05/14 | 89 |  | 75 |  | 164 | 03/01/2015
CORDOVA
01/01-12/31 | 95 |  | 77 |  | 172 | 03/01/2015
CRAIG
04/01-09/30 | 129 |  | 77 |  | 206 | 06/01/2014
10/01-03/31 | 85 |  | 72 |  | 157 | 06/01/2014
DEADHORSE
01/01-12/31 | 170 |  | 70 |  | 240 | 05/01/2014
DELTA JUNCTION
05/01-09/30 | 169 |  | 60 |  | 229 | 03/01/2015
10/01-04/30 | 139 |  | 57 |  | 196 | 03/01/2015
DENALI NATIONAL PARK
06/01-08/31 | 185 |  | 89 |  | 274 | 03/01/2015
09/01-05/31 | 109 |  | 82 |  | 191 | 03/01/2015
DILLINGHAM
05/15-10/15 | 185 |  | 111 |  | 296 | 01/01/2011
10/16-05/14 | 169 |  | 109 |  | 278 | 01/01/2011
DUTCH HARBOR—UNALASKA
01/01-12/31 | 135 |  | 79 |  | 214 | 03/01/2015
EARECKSON AIR STATION
01/01-12/31 | 90 |  | 77 |  | 167 | 06/01/2007
EIELSON AFB
05/15-09/15 | 154 |  | 85 |  | 239 | 03/01/2015
09/16-05/14 | 75 |  | 77 |  | 152 | 03/01/2015
ELFIN COVE
01/01-12/31 | 225 |  | 68 |  | 293 | 03/01/2015
ELMENDORF AFB
05/16-09/30 | 190 |  | 102 |  | 292 | 12/01/2013
10/01-05/15 | 99 |  | 93 |  | 192 | 12/01/2013
FAIRBANKS
05/15-09/15 | 154 |  | 85 |  | 239 | 03/01/2015
09/16-05/14 | 75 |  | 77 |  | 152 | 03/01/2015
FOOTLOOSE
01/01-12/31 | 175 |  | 18 |  | 193 | 10/01/2002
FORT YUKON LRRS
01/01-12/31 | 110 |  | 99 |  | 209 | 03/01/2015
FT. GREELY
05/01-09/30 | 169 |  | 60 |  | 229 | 03/01/2015
10/01-04/30 | 139 |  | 57 |  | 196 | 03/01/2015
FT. RICHARDSON
05/16-09/30 | 190 |  | 102 |  | 292 | 12/01/2013
10/01-05/15 | 99 |  | 93 |  | 192 | 12/01/2013
FT. WAINWRIGHT
05/15-09/15 | 154 |  | 85 |  | 239 | 03/01/2015
09/16-05/14 | 75 |  | 77 |  | 152 | 03/01/2015
GAMBELL
01/01-12/31 | 133 |  | 59 |  | 192 | 03/01/2015
GLENNALLEN
09/16-05/14 | 89 |  | 75 |  | 164 | 03/01/2015
05/15-09/15 | 130 |  | 79 |  | 209 | 03/01/2015
HAINES
01/01-12/31 | 107 |  | 101 |  | 208 | 01/01/2011
HEALY
06/01-08/31 | 185 |  | 89 |  | 274 | 03/01/2015
09/01-05/31 | 109 |  | 82 |  | 191 | 03/01/2015
HOMER
05/01-09/30 | 159 |  | 91 |  | 250 | 03/01/2015
10/01-04/30 | 89 |  | 84 |  | 173 | 03/01/2015
JB ELMENDORF-RICHARDSON
05/16-09/30 | 190 |  | 102 |  | 292 | 12/01/2014
10/01-05/15 | 99 |  | 93 |  | 192 | 12/01/2014
JUNEAU
10/01-04/30 | 135 |  | 88 |  | 223 | 03/01/2015
05/01-09/30 | 159 |  | 90 |  | 249 | 03/01/2015
KAKTOVIK
01/01-12/31 | 165 |  | 86 |  | 251 | 10/01/2002
KAVIK CAMP
01/01-12/31 | 250 |  | 71 |  | 321 | 03/01/2015
KENAI-SOLDOTNA
05/01-10/31 | 194 |  | 107 |  | 301 | 03/01/2015
11/01-04/30 | 84 |  | 96 |  | 180 | 03/01/2015
KENNICOTT
01/01-12/31 | 229 |  | 102 |  | 331 | 03/01/2015
KETCHIKAN
04/01-10/01 | 140 |  | 90 |  | 230 | 03/01/2015
10/02-03/31 | 99 |  | 85 |  | 184 | 03/01/2015
KING SALMON
10/02-04/30 | 125 |  | 81 |  | 206 | 10/01/2002
05/01-10/01 | 225 |  | 91 |  | 316 | 10/01/2002
KING SALMON LRRS
01/01-12/31 | 110 |  | 99 |  | 209 | 03/01/2015
KLAWOCK
10/01-03/31 | 85 |  | 72 |  | 157 | 06/01/2014
04/01-09/30 | 129 |  | 77 |  | 206 | 06/01/2014
KODIAK
05/01-09/30 | 180 |  | 82 |  | 262 | 03/01/2015
10/01-04/30 | 100 |  | 74 |  | 174 | 03/01/2015
KOTZEBUE
01/01-12/31 | 219 |  | 95 |  | 314 | 03/01/2015
KULIS AGS
05/16-09/30 | 190 |  | 102 |  | 292 | 12/01/2013
10/01-05/15 | 99 |  | 93 |  | 192 | 12/01/2013
MCCARTHY
01/01-12/31 | 229 |  | 102 |  | 331 | 03/01/2015
MCGRATH
01/01-12/31 | 160 |  | 82 |  | 242 | 07/01/2014
MURPHY DOME
09/16-05/14 | 75 |  | 77 |  | 152 | 03/01/2015
05/15-09/15 | 154 |  | 85 |  | 239 | 03/01/2015
NOME
01/01-12/31 | 165 |  | 108 |  | 273 | 03/01/2015
NUIQSUT
01/01-12/31 | 233 |  | 69 |  | 302 | 03/01/2015
OLIKTOK LRRS
01/01-12/31 | 110 |  | 99 |  | 209 | 03/01/2015
PETERSBURG
01/01-12/31 | 110 |  | 99 |  | 209 | 03/01/2015
POINT BARROW LRRS
01/01-12/31 | 110 |  | 99 |  | 209 | 03/01/2015
POINT HOPE
01/01-12/31 | 181 |  | 81 |  | 262 | 06/01/2014
POINT LAY
01/01-12/31 | 265 |  | 72 |  | 337 | 07/01/2014
POINT LAY LRRS
01/01-12/31 | 265 |  | 72 |  | 337 | 04/01/2015
POINT LONELY LRRS
01/01-12/31 | 110 |  | 99 |  | 209 | 03/01/2015
PORT ALEXANDER
01/01-12/31 | 155 |  | 61 |  | 216 | 03/01/2015
PORT ALSWORTH
01/01-12/31 | 135 |  | 88 |  | 223 | 10/01/2002
PRUDHOE BAY
01/01-12/31 | 170 |  | 70 |  | 240 | 05/01/2014
SELDOVIA
10/01-04/30 | 89 |  | 84 |  | 173 | 03/01/2015
05/01-09/30 | 159 |  | 91 |  | 250 | 03/01/2015
SEWARD
05/01-09/30 | 207 |  | 104 |  | 311 | 03/01/2015
10/01-04/30 | 169 |  | 100 |  | 269 | 03/01/2015
SITKA-MT. EDGECUMBE
05/15-09/15 | 200 |  | 99 |  | 299 | 03/01/2015
09/16-05/14 | 139 |  | 93 |  | 232 | 03/01/2015
SKAGWAY
04/01-10/01 | 140 |  | 90 |  | 230 | 03/01/2015
10/02-03/31 | 99 |  | 85 |  | 184 | 03/01/2015
SLANA
10/01-04/30 | 99 |  | 55 |  | 154 | 02/01/2005
05/01-09/30 | 139 |  | 55 |  | 194 | 02/01/2005
SPARREVOHN LRRS
01/01-12/31 | 110 |  | 99 |  | 209 | 03/01/2015
SPRUCE CAPE
10/01-04/30 | 100 |  | 74 |  | 174 | 03/01/2015
05/01-09/30 | 180 |  | 82 |  | 262 | 03/01/2015
ST. GEORGE
01/01-12/31 | 220 |  | 68 |  | 288 | 03/01/2015
TALKEETNA
01/01-12/31 | 100 |  | 89 |  | 189 | 10/01/2002
TANANA
01/01-12/31 | 165 |  | 108 |  | 273 | 03/01/2015
TATALINA LRRS
01/01-12/31 | 110 |  | 99 |  | 209 | 03/01/2015
TIN CITY LRRS
01/01-12/31 | 110 |  | 99 |  | 209 | 03/01/2015
TOK
05/15-09/30 | 100 |  | 72 |  | 172 | 03/01/2015
10/01-05/14 | 79 |  | 70 |  | 149 | 03/01/2015
UMIAT
01/01-12/31 | 350 |  | 80 |  | 430 | 03/01/2015
VALDEZ
09/17-04/15 | 109 |  | 90 |  | 199 | 03/01/2015
04/16-09/16 | 189 |  | 98 |  | 287 | 03/01/2015
WAINWRIGHT
01/01-12/31 | 175 |  | 83 |  | 258 | 01/01/2011
WASILLA
05/01-09/30 | 125 |  | 92 |  | 217 | 03/01/2015
10/01-04/30 | 90 |  | 89 |  | 179 | 03/01/2015
WRANGELL
04/01-10/01 | 140 |  | 90 |  | 230 | 03/01/2015
10/02-03/31 | 99 |  | 85 |  | 184 | 03/01/2015
YAKUTAT
01/01-12/31 | 105 |  | 94 |  | 199 | 01/01/2011
AMERICAN SAMOA:
AMERICAN SAMOA
01/01-12/31 | 139 |  | 69 |  | 208 | 06/01/2015
GUAM:
GUAM (INCL ALL MIL INSTAL)
01/01-12/31 | 159 |  | 84 |  | 243 | 12/01/2013
JOINT REGION MARIANAS (ANDERSEN)
01/01-12/31 | 159 |  | 84 |  | 243 | 04/01/2015
JOINT REGION MARIANAS (NAVAL BASE)
01/01-12/31 | 159 |  | 84 |  | 243 | 04/01/2015
HAWAII:
[OTHER]
01/01-12/31 | 142 |  | 108 |  | 250 | 06/01/2015
CAMP H M SMITH
01/01-12/31 | 177 |  | 117 |  | 294 | 06/01/2015
EASTPAC NAVAL COMP TELE AREA
01/01-12/31 | 177 |  | 117 |  | 294 | 06/01/2015
FT. DERUSSEY
01/01-12/31 | 177 |  | 117 |  | 294 | 06/01/2015
FT. SHAFTER
01/01-12/31 | 177 |  | 117 |  | 294 | 06/01/2015
HICKAM AFB
01/01-12/31 | 177 |  | 117 |  | 294 | 06/01/2015
HONOLULU
01/01-12/31 | 177 |  | 117 |  | 294 | 06/01/2015
ISLE OF HAWAII: HILO
01/01-12/31 | 142 |  | 108 |  | 250 | 06/01/2015
ISLE OF HAWAII: OTHER
01/01-12/31 | 189 |  | 142 |  | 331 | 06/01/2015
ISLE OF KAUAI
01/01-12/31 | 305 |  | 146 |  | 451 | 06/01/2015
ISLE OF MAUI
01/01-12/31 | 259 |  | 146 |  | 405 | 06/01/2015
ISLE OF OAHU
01/01-12/31 | 177 |  | 117 |  | 294 | 06/01/2015
JB PEARL HARBOR-HICKAM
01/01-12/31 | 177 |  | 117 |  | 294 | 06/01/2015
KEKAHA PACIFIC MISSILE RANGE FAC
01/01-12/31 | 305 |  | 146 |  | 451 | 06/01/2015
KILAUEA MILITARY CAMP
01/01-12/31 | 142 |  | 108 |  | 250 | 06/01/2015
LANAI
01/01-12/31 | 229 |  | 103 |  | 332 | 06/01/2015
LUALUALEI NAVAL MAGAZINE
01/01-12/31 | 177 |  | 117 |  | 294 | 06/01/2015
MCB HAWAII
01/01-12/31 | 177 |  | 117 |  | 294 | 06/01/2015
MOLOKAI
01/01-12/31 | 157 |  | 86 |  | 243 | 06/01/2015
NAS BARBERS POINT
01/01-12/31 | 177 |  | 117 |  | 294 | 06/01/2015
PEARL HARBOR
01/01-12/31 | 177 |  | 117 |  | 294 | 06/01/2015
PMRF BARKING SANDS
01/01-12/31 | 305 |  | 146 |  | 451 | 06/01/2015
SCHOFIELD BARRACKS
01/01-12/31 | 177 |  | 117 |  | 294 | 06/01/2015
TRIPLER ARMY MEDICAL CENTER
01/01-12/31 | 177 |  | 117 |  | 294 | 06/01/2015
WHEELER ARMY AIRFIELD
01/01-12/31 | 177 |  | 117 |  | 294 | 06/01/2015
MIDWAY ISLANDS:
MIDWAY ISLANDS
01/01-12/31 | 125 |  | 81 |  | 206 | 06/01/2015
NORTHERN MARIANA ISLANDS:
[OTHER]
01/01-12/31 | 99 |  | 97 |  | 196 | 08/01/2014
ROTA
01/01-12/31 | 130 |  | 104 |  | 234 | 08/01/2014
SAIPAN
01/01-12/31 | 140 |  | 96 |  | 236 | 12/01/2013
TINIAN
01/01-12/31 | 99 |  | 97 |  | 196 | 08/01/2014
PUERTO RICO:
[OTHER]
01/01-12/31 | 109 |  | 112 |  | 221 | 06/01/2012
AGUADILLA
01/01-12/31 | 124 |  | 76 |  | 200 | 10/01/2012
BAYAMON
01/01-12/31 | 195 |  | 128 |  | 323 | 09/01/2010
CAROLINA
01/01-12/31 | 195 |  | 128 |  | 323 | 09/01/2010
CEIBA
01/01-12/31 | 139 |  | 92 |  | 231 | 10/01/2012
CULEBRA
01/01-12/31 | 150 |  | 98 |  | 248 | 03/01/2012
FAJARDO [INCL ROOSEVELT RDS NAVSTAT]
01/01-12/31 | 139 |  | 92 |  | 231 | 10/01/2012
FT. BUCHANAN [INCL GSA SVC CTR, GUAYNABO
01/01-12/31 | 195 |  | 128 |  | 323 | 09/01/2010
HUMACAO
01/01-12/31 | 139 |  | 92 |  | 231 | 10/01/2012
LUIS MUNOZ MARIN IAP AGS
01/01-12/31 | 195 |  | 128 |  | 323 | 09/01/2010
LUQUILLO
01/01-12/31 | 139 |  | 92 |  | 231 | 10/01/2012
MAYAGUEZ
01/01-12/31 | 109 |  | 112 |  | 221 | 09/01/2010
PONCE
01/01-12/31 | 149 |  | 89 |  | 238 | 09/01/2012
RIO GRANDE
01/01-12/31 | 169 |  | 123 |  | 292 | 06/01/2012
SABANA SECA [INCL ALL MILITARY]
01/01-12/31 | 195 |  | 128 |  | 323 | 09/01/2010
SAN JUAN & NAV RES STA
01/01-12/31 | 195 |  | 128 |  | 323 | 09/01/2010
VIEQUES
01/01-12/31 | 175 |  | 95 |  | 270 | 03/01/2012
VIRGIN ISLANDS (U.S.):
ST. CROIX
04/15-12/14 | 247 |  | 110 |  | 357 | 06/01/2015
12/15-04/14 | 299 |  | 116 |  | 415 | 06/01/2015
ST. JOHN
04/15-12/14 | 163 |  | 98 |  | 261 | 05/01/2006
12/15-04/14 | 220 |  | 104 |  | 324 | 05/01/2006
ST. THOMAS
04/15-12/14 | 240 |  | 105 |  | 345 | 05/01/2006
12/15-04/14 | 299 |  | 111 |  | 410 | 05/01/2006
WAKE ISLAND:
WAKE ISLAND
01/01-12/31 | 173 |  | 66 |  | 239 | 07/01/2014

[FR Doc. 2015-12874 Filed 5-27-15; 8:45 am]

BILLING CODE 5001-06-P